DEPARTMENT OF TRANSPORTATION

Federal Railroad Administration

Petition for Waiver of Compliance

In accordance with part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

South Carolina Railroad Museum, Inc.

[Waiver Petition Docket Number FRA-2010-0095]

The South Carolina Railroad Museum (SCRM) is a non-profit (501)(c)(3) railroad museum located near Winnsboro, South Carolina, which operates excursion passenger trains primarily on certain weekends and on special charters as part of its museum activity. SCRM seeks a waiver from compliance with 49 CFR 240.201(d), which provides that only certified persons may operate trains or locomotives. The waiver would affect only persons who participate in the “engineer for a day” program, which would allow non-certified persons to operate a diesel electric locomotive as the “engineer.” Various restrictions would be placed on these operations.

The waiver would cover operations on 5,280 feet of main line track between Milepost (MP) 4 and MP 5 that would be placed under absolute block control (section of track can only be occupied by one train at a time) during these operations. This section of track does not have any public highway-rail grade crossings on it, and is located largely within the confines of Rion Quarry, which is no longer in operation.

SCRM has an annual budget of approximately $180,000.00. SCRM has no employees. All excursion trains are staffed by volunteers who have been through testing and certification for their respective train crew duties. The “engineer for a day” program would allow SCRM to supplement its education programs and generate needed additional income for preservation and for providing a railroad experience to persons visiting the museum.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2010-0095) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the document (or signing the document, if submitted on behalf of an association, business, labor union, etc.). You may review DOT's complete Privacy Act Statement in the Federal Register published on April 11, 2000 (Volume 65, Number 70; Page 19477) or at http://www.dot.gov/privacy.html.

Issued in Washington, DC, on October 4, 2010.
Robert C. Lauby,
Deputy Associate Administrator for Regulatory and Legislative Operations.

[FR Doc. 2010-25487 Filed 10-8-10; 8:45 am]

BILLING CODE 4910-06-P